DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Field Representative/Decennial Field Staff/Coverage Measurement Exit Questionnaire.

Form Number(s): BC-1294, BC-1294(D), BC-1294(CM).

OMB Control Number: 0607-0404.

Type of Request: Revision of a currently approved collection.

Burden Hours: 393.

Number of Respondents: 2,500.

Average Hours Per Response: BC-1294—7 minutes; BC-1294(D) and BC-1294(CM)—10 minutes.

Needs and Uses: Retention of trained field interviewing staff is a major concern for the Census Bureau because of both the monetary costs associated with employee turnover, as well as the potential impact on data quality. Therefore, in a continuous effort to devise policies and practices aimed at reducing turnover among interviewers, the Census Bureau collects data on the reasons interviewers leave their Census Bureau jobs.

The exit questionnaires are the instruments used to collect turnover data from a sample of former current survey interviewers (field representatives) and decennial census interviewers (enumerators and listers). The goal or purpose of the exit questionnaires is to determine the reasons for interviewer turnover and what the Census Bureau might have done, or can do, to influence interviewers not to leave. Thus the exit questionnaires seek reasons interviewers quit, inquires about motivational factors that would have kept interviewers from leaving, attempts to identify training program strengths and weaknesses and their impacts on turnover, and explores the impact of pay, working conditions and supervisory styles on employees' reasons for quitting.

As the environment in which surveys take place, the demographics of our labor force, and the way surveys are conducted continues to change, it is important that we continue to examine the interviewers' concerns about their job. Information provided by respondents to the exit questionnaire provides insight on the measures the Census Bureau might take to decrease turnover, and is useful in helping us determine if the reasons for interviewer turnover appear to be systemic or localized. The exit questionnaires have been shown to be useful and, therefore, we believe it is important to continue to use them to effect program planning and management.

Forms BC-1294 and BC-1294(D) are the instruments we currently use to collect turnover data from a sample of former current survey interviewers and decennial census interviewers, respectively. We are adding the BC-1294(CM) to this clearance to collect turnover data from Census Coverage Measurement (CCM) listers and interviewers. CCM operations are conducted to determine the number of people and housing units missed or counted more than once in the Census of the United States and Puerto Rico.

In addition to the new form BC-1294(CM), we plan to implement changes to the BC-1294 and BC-1294(D) which reflect Census Bureau policy and procedural changes to current survey and decennial operations since the last request for clearance. For example, on the current survey side, field staff have reported an increased concern for safeguarding Personally Identifiable Information (PII) and Census Bureau confidential data on laptops, which has resulted in the use of multiple passwords and data encryption software. Thus, changes have been made to the BC-1294 to determine if the Census Bureau's increased security concerns, for the accountable property (laptops) and the increased security requirements pertaining to the restricted data contained on the laptops, are impacting FR turnover.

Recent changes in 2010 decennial operations have also made it necessary to revise the BC-1294(D). For example, the 2010 Nonresponse Followup (NRFU) operation that was originally going to involve computer-assisted data collection will revert to being a paper-based operation. That is, a paper instrument or questionnaire will be used to collect respondent data instead of a hand-held computer. Thus we are making changes to the BC-1294(D) to remove questions about the use and impact of automation on the retention of NRFU enumerators. In addition, the proposed revisions to the BC-1294(D) reflect the redesign of the 2010 Address Canvassing operation from what was done in the 2006 Census Test and the lessons learned during the 2008 Dress Rehearsal.

The information collected via the three Exit Questionnaires will help the Census Bureau develop plans to reduce turnover in its current survey, decennial and coverage measurement interviewing staff. This, in turn, will allow for better informed decisions regarding the field workforce and implementation of more effective pay plans, selection procedures, interviewer training, and retention strategies for all interviewers.

Affected Public: Individuals or households.

Frequency: One-time.

Respondent's Obligation: Voluntary.

Legal Authority: Title 5 U.S.C. Section 3101 and Title 13 U.S.C. Section 23.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer, either by fax (202-395-7245) or e-mail (bharrisk@omb.eop.gov).

Dated: October 3, 2008.
Gwellnar Banks,
Management Analyst, Office of the Chief Information Officer.

[FR Doc. E8-23890 Filed 10-8-08; 8:45 am]

BILLING CODE 3510-07-P